DEPARTMENT OF THE INTERIOR

Bureau of Reclamation

[RR02030000, 20XR0680I1, RX.08637907.6000000]

Notice of Intent to Prepare an Environmental Impact Statement for the Del Puerto Canyon Reservoir Project, Stanislaus County, California

AGENCY: Bureau of Reclamation, Interior.

ACTION: Notice of intent; request for comments.

SUMMARY: The Bureau of Reclamation (Reclamation) intends to prepare an Environmental Impact Statement (EIS) for the Del Puerto Canyon Reservoir Project. Reclamation is requesting public and agency comment to identify significant issues or other alternatives to be addressed in the EIS.

DATES: Submit written comments on the scope of the EIS on or before May 29, 2020.

ADDRESSES: Provide written scoping comments, requests to be added to the mailing list, or requests for other special assistance needs to Ms. Allison Jacobson, Project Manager, Bureau of Reclamation, Division of Planning, 2800 Cottage Way CGB-700, Sacramento, CA 95825.

FOR FURTHER INFORMATION CONTACT: Ms. Allison Jacobson, Bureau of Reclamation, Division of Planning, 2800 Cottage Way CGB-700, Sacramento, CA 95825; telephone (916) 978-5075; facsimile (916-978-5094); email ajacobson@usbr.gov. Persons who use a telecommunications device for the deaf may call the Federal Relay Service (FedRelay) at 1-800-877-8339 TTY/ASCII to contact the above individual during normal business hours or to leave a message or question after hours. You will receive a reply during normal business hours. Information on this project may also be found at: https://www.delpuertocanyonreservoir.com.

SUPPLEMENTARY INFORMATION: Reclamation is issuing this notice pursuant to the National Environmental Policy Act of 1969, as amended (NEPA), 42 U.S.C. 4321 et seq.; the Council on Environmental Quality's (CEQ) regulations for implementing NEPA, 43 CFR parts 1500 through 1508; and the Department of the Interior's NEPA regulations, 43 CFR part 46.

Background

Del Puerto Water District (DPWD), in partnership with the San Joaquin River Exchange Contractors Water Authority (SJRECWA), proposes to construct a reservoir located on Del Puerto Creek in the foothills of the Coast Range Mountains west of Patterson, California and Interstate 5. The Del Puerto Canyon Reservoir Project (Project) is a State-led effort under the Water Infrastructure Improvements for the Nation Act (WIIN Act) Public Law 114-322, Sec. 4007. The proposed reservoir would provide approximately 82,000 acre-feet (AF) of locally owned off-stream storage south of the Sacramento-San Joaquin Delta. The purpose of the proposed Project is to develop additional South of Delta water storage to maximize the management and efficient use of existing water supplies in both DPWD and the SJRECWA service areas and to serve environmental purposes, including water supply for wildlife refuges designated under the Central Valley Project Improvement Act. Water would be conveyed from the Delta-Mendota Canal (DMC) to be stored in the proposed reservoir and later discharged back into the DMC. The proposed Project includes construction of a main dam, three saddle dams, a spillway, inlet/outlet works, conveyance facilities (including a diversion facility on the DMC, a pumping plant, underground pipeline and energy dissipation facilities at the DMC outfall, along with related appurtenant components), and electrical facilities (power supply line and electrical substation). The proposed Project also includes relocating existing and proposed utilities that run north-south through the Project area and the relocation of Del Puerto Canyon Road, which runs east-west through the Project area.

The Project sponsors developed an Environmental Impact Report (EIR) pursuant to the California Environmental Quality Act for the Project and released that EIR for public review on December 12, 2019. The review period ended January 27, 2020. Effects to many of the resources discussed in the EIR were mitigated to less-than-significant levels, though there were significant and unavoidable effects remaining after mitigation. Reclamation's action would be to fund up to 25 percent of total project costs pursuant to the WIIN Act, proportional to the Federal benefits developed. Reclamation will use much of the analysis and evaluate the alternatives presented in the EIR. Additional information will be developed in the EIS with respect to several resources, including energy use, traffic and transportation, air quality, biological resources, cultural resources, and Central Valley Project operations. Agencies and the public are encouraged to review the EIR provided at https://www.delpuertocanyonreservoir.com, and provide input regarding potentially significant issues to be addressed, or to identify potential alternatives that would meet the purpose of the Project.

Public Disclosure

Before including your address, phone number, email address, or other personal identifying information in your comment, you should be aware that your entire comment—including your personal identifying information—may be made publicly available at any time. While you may ask us in your comment to withhold your personal identifying information from public review, we cannot guarantee that we will be able to do so.

Richard Welsh,
Principal Deputy Regional Director, Bureau of Reclamation, Interior Region 10—California-Great Basin.

[FR Doc. 2020-09042 Filed 4-28-20; 8:45 am]

BILLING CODE 4332-90-P